DEPARTMENT OF TRANSPORTATION

Federal Aviation Administration

Notice of Intent to Rule on Request to Release Airport Property at New Century AirCenter, New Century, Kansas

AGENCY: Federal Aviation Administration, (FAA), DOT.

ACTION: Notice of request to release airport property.

SUMMARY: The FAA proposes to rule and invites public comment on the release of land at New Century AirCenter under the provisions of Section 125 of the Wendell H. Ford Aviation Investment Reform Act for the 21st Century (AIR 21).

DATES: Comments must be received on or before January 18, 2011.

ADDRESSES: Comments on this application may be mailed or delivered to the FAA at the following address: Federal Aviation Administration, Central Region, Airports Division, 901 Locust, Kansas City, Missouri 64106-2325.

In addition, one copy of any comments submitted to the FAA must be mailed or delivered to R.E. Metcalfe, A.A.E., Executive Director, Johnson County Airport Commission, One New Century Parkway, New Century, Kansas, 66031.

FOR FURTHER INFORMATION CONTACT: Nicoletta Oliver, Airports Compliance Specialist, FAA, Central Region, 901 Locust, Kansas City, MO 64106-2325, (816) 329-2642.

The request to release property may be reviewed in person at this same location.

SUPPLEMENTARY INFORMATION: The FAA proposes to rule and invites public comment on the request to release property at New Century AirCenter under the provisions of AIR21.

On December 3, 2010, the FAA determined that the request to release property at New Century AirCenter, submitted by the Johnson County Airport Commission, met the procedural requirements of the Federal Aviation Administration. The FAA will approve or disapprove the request, in whole or in part, no later than February 15, 2011.

The following is a brief overview of the request.

The Johnson County Airport Commission requests the release of approximately 9.81 acres of airport property. The land is currently not being used for aeronautical purposes. This parcel has a building constructed by a private developer for commercial use. The purpose of this release is to sell the land to the Johnson County Parks and Recreation Board who intends to convert the building to an indoor soccer facility with outdoor fields adjacent to the building and within the boundary of the parcel. The sale of this property will generate fair market value revenue for the airport.

Any person may inspect the request in person at the FAA office listed above under FOR FURTHER INFORMATION CONTACT.

In addition, any person may, upon request, inspect the application, notice and other documents that are relevant to the request, in person at New Century AirCenter, New Century, Kansas.

Issued in Kansas City, Missouri, on December 10, 2010.
Rodney N. Joel,
Acting Manager, Airports Division, Central Region.

[FR Doc. 2010-31515 Filed 12-16-10; 8:45 am]

BILLING CODE 4910-13-M